DEPARTMENT OF DEFENSE

Defense Logistics Agency

[DOD-2006-OS-0124]

Privacy Act of 1974; Systems of Records

AGENCY: Defense Logistics Agency.

ACTION: Notice to amend a system of records.

SUMMARY: The Defense Logistics Agency is amending a system of records notice to its existing inventory of record systems subject to the Privacy Act of 1974 (5 U.S.C. 552a), as amended.

DATES: This action will be effective without further notice on July 5, 2006, unless comments are received that would result in a contrary determination.

ADDRESSES: Send comments to the Privacy Act Officer, Headquarters, Defense Logistics Agency, ATTN: DP, 8725 John J. Kingman Road, Stop 2533, Fort Belvoir, VA 22060-6221.

FOR FURTHER INFORMATION CONTACT: Ms. Susan Salus at (703) 767-6183.

SUPPLEMENTARY INFORMATION: The Defense Logistics Agency notices for systems of records subject to the Privacy Act of 1974 (5 U.S.C. 552a), as amended, have been published in the Federal Register and are available from the address above.

The specific changes to the record system being amended are set forth below followed by the notice, as amended, published in its entirety. The proposed amendment is not within the purview of subsection (r) of the Privacy Act of 1974, (5 U.S.C. 552a), as amended, which requires the submission of a new or altered system report.

Dated: May 26, 2006.
C.R. Choate,
Alternate OSD Federal Register Liaison Officer, Department of Defense.

S322.01 DMDC

System name:

Defense Outreach Referral System (DORS) (May 19, 1999, 64 FR 27238).

Changes:

* * * * *

System location:

Delete second paragraph.

* * * * *

Retention and disposal:

Delete entry and replace with: “Delete when 5 years old or when no longer needed for operational purposes, whichever is later.”

* * * * *

Notification procedure:

Delete entry and replace with: “Individuals seeking to determine whether information about themselves is contained in this system should address written inquiries to the Privacy Act Officer, Headquarters, Defense Logistics Agency, ATTN: DP, 8725 John J. Kingman Road, Stop 2533, Fort Belvoir, VA 22060-6221.”

Record access procedures:

Delete entry and replace with: “Individuals seeking access to information about themselves contained in this system should address written inquiries to the Privacy Act Officer, Headquarters, Defense Logistics Agency, ATTN: DP, 8725 John J. Kingman Road, Stop 2533, Fort Belvoir, VA 22060-6221.

Written requests for information should contain the full name, Social Security Number, date of birth, and current address and telephone number of the individual.”

Contesting record procedures:

Delete entry and replace with: “The DLA rules for accessing records, for contesting contents, and appealing initial agency determinations are contained in 32 CFR part 323, or may be obtained from the Privacy Act Officer, Headquarters, Defense Logistics Agency, ATTN: DP, 8725 John J. Kingman Road, Stop 2533, Fort Belvoir, VA 22060-6221.”

* * * * *

S322.01 DMDC

System name:

Defense Outreach Referral System (DORS).

System location:

Naval Postgraduate School Computer Center, Naval Postgraduate School, Monterey, CA 93943-5000.

Categories of individuals covered by the system:

Current and former Defense military and civilian personnel and their spouses; U.S. Coast Guard personnel and their spouses; and participating Federal department's and/or agencies' civilian employees and their spouses who have applied to take part in this job placement program.

Individuals covered under Public Laws 102-484 and 103-337, who have applied for public employment.

Categories of records in the system:

Computerized records consisting of name, Social Security Number, correspondence address, branch of service, date of birth, separation status, travel availability, U.S. citizenship, occupational interests, geographic location work preferences, pay grade, rank, last unit of assignment, educational levels, dates of military or civilian service, language skills, flying status, security clearances, civilian and military occupation codes, and self reported personal comments for the purpose of providing prospective employers with a centralized system for locating potential employees.

Authority for maintenance of the system:

10 U.S.C. 136, Under Secretary of Defense for Personnel and Readiness; 10 U.S.C. 1143 and 1144; 10 U.S.C. 2358; 31 U.S.C. 1535; Pub. L. 101-510, 102-484 and 103-337; and E.O. 9397 (SSN).

Purpose(s):

The purpose of this system is to facilitate the transition of current and former Defense military and their spouses; U.S. Coast Guard personnel and their spouses; and participating Federal department's and/or agencies' civilian employees and their spouses to private industry and public employment in the event of a downsizing of the Department of Defense and the Federal Government.

For former military members covered under Public Law 102-484 and Public Law 103-337, the information will be used to track the participant's public employment and to verify the participant's public employment history for DoD and DoT retirement and pay eligibility.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

DoD “Blanket Routine Uses” set forth at the beginning of DLA's compilation of systems of records notices apply to this system.

Policies and practices of storing, retrieving, accessing, retaining and disposing of records in the system:

Storage:

Electronic storage.

Retrievability:

Retrieved by Social Security Number of occupational or geographic preference of the individual.

Safeguards:

Access to data at all locations is restricted to those who require the records in the performance of their official duties. Access is further restricted by the use of passwords which are changed periodically. Physical entry is restricted by the use of locks, guards, and administrative procedures.

Retention and disposal:

Delete when 5 years old or when no longer needed for operational purposes, whichever is later.

System manager(s) and address:

Director, Defense Manpower Data Center, 1600 Wilson Boulevard, Suite 400, Arlington, VA 22209-2593.

Notification procedure:

Individuals seeking to determine whether information about themselves is contained in this system should address written inquiries to the Privacy Act Officer, Headquarters, Defense Logistics Agency, ATTN: DP, 8725 John J. Kingman Road, Stop 2533, Fort Belvoir, VA 22060-6221.

Record access procedures:

Individuals seeking access to information about themselves contained in this system should address written inquiries to the Privacy Act Officer, Headquarters, Defense Logistics Agency, ATTN: DP, 8725 John J. Kingman Road, Stop 2533, Fort Belvoir, VA 22060-6221.

Written requests for information should contain the full name, Social Security Number, date of birth, and current address and telephone number of the individual.

Contesting record procedures:

The DLA rules for accessing records, for contesting contents, and appealing initial agency determinations are contained in 32 CFR part 323, or may be obtained from the Privacy Act Officer, Headquarters, Defense Logistics Agency, ATTN: DP, 8725 John J. Kingman Road, Stop 2533, Fort Belvoir, VA 22060-6221.

Record source categories:

The Military Services, DoD Components, the U.S. Coast Guard, participating Federal departments and/or agencies, and from the subject individual via application into the program.

Exemptions claimed for the system:

None.

[FR Doc. 06-5099 Filed 6-2-06; 8:45 am]

BILLING CODE 5001-06-M